DEPARTMENT OF HEALTH AND HUMAN SERVICES

National Institutes of Health

National Heart, Lung and Blood Institute; Amended Notice of Meeting

Notice is hereby given of a change in the meeting of the Sleep Disorders Research Advisory Board, June 26, 2001, 8 am to June 26, 2001, 5 pm, National Institutes of Health, Natcher Building 45, Conference Room D, 9000 Rockville Pike, Bethesda, MD, 20892 which was published in the Federal Register on April 26, 2001, FR 66:21000.

The meeting location will change to the Neuroscience Center, Conference Room D, National Institutes of Health, 6001 Executive Boulevard, Bethesda, Maryland 20892. The meeting is open to the public.

Dated: June 22, 2001.
LaVerne Y. Stringfield,
Director, Office of Federal Advisory Committee Policy.

[FR Doc. 01-16362 Filed 6-28-01; 8:45 am]

BILLING CODE 4140-01-M